DEPARTMENT OF TRANSPORTATION

Federal Aviation Administration

Notice of Submission Deadline for Schedule Information for Chicago O'Hare International Airport, John F. Kennedy International Airport, Los Angeles International Airport, Newark Liberty International Airport, and San Francisco International Airport for the Winter 2020/2021 Scheduling Season

AGENCY: Federal Aviation Administration (FAA), Department of Transportation,.

ACTION: Notice of submission deadline.

SUMMARY: Under this notice, the FAA announces the submission deadline of May 14, 2020, for Winter 2020/2021 flight schedules at Chicago O'Hare International Airport (ORD), John F. Kennedy International Airport (JFK), Los Angeles International Airport (LAX), Newark Liberty International Airport (EWR), and San Francisco International Airport (SFO). The deadline coincides with the schedule submission deadline for the International Air Transport Association (IATA) Calendar of Coordination Activities for the Winter 2020/2021 scheduling season.

DATES: Schedules must be submitted no later than May 14, 2020.

ADDRESSES: Schedules may be submitted by mail to the Slot Administration Office, AGC-200, Office of the Chief Counsel, 800 Independence Avenue SW, Washington, DC 20591; facsimile: 202-267-7277; or by email to: 7-AWA-slotadmin@faa.gov.

FOR FURTHER INFORMATION CONTACT: Al Meilus, Manager, Slot Administration, AJR-G, Federal Aviation Administration, 800 Independence Avenue SW, Washington, DC 20591; telephone (202) 267-2822; email Al.Meilus@faa.gov.

SUPPLEMENTARY INFORMATION: This document provides routine notice to carriers serving capacity-constrained airports in the United States.

General Information for All Airports

The FAA has designated EWR, LAX, ORD, and SFO as IATA Level 2 airports ¹ and JFK as an IATA Level 3 airport consistent with the Worldwide Slot Guidelines (WSG).² The FAA currently limits scheduled operations at JFK by order that expires on October 24, 2020.³ The U.S. Winter 2020/2021 scheduling season is from October 25, 2020, through March 27, 2021, in recognition of the IATA northern winter scheduling period. Notwithstanding that carriers may presently face unusual uncertainty about their operations in light of Coronavirus Disease 2019 (COVID-19), carriers should continue preparations for schedule facilitation at Level 2 airports and an extension of slot controls at JFK during the Winter 2020/2021 scheduling season, even if the effects of COVID-19 continue into the Winter 2020/2021 scheduling season.⁴ Recognizing that there is presently uncertainty about the outlook for passenger demand in the Winter 2020/2021 season, advance planning consistent with the IATA Worldwide Slot Guidelines and the FAA's usual process is expected to preserve stability during the COVID-19 crisis, which has caused unprecedented disruption to the aviation industry.

¹ These designations remain effective until the FAA announces a change in the Federal Register.

² The FAA applies the WSG to the extent there is no conflict with U.S. law or regulation. The FAA is reviewing recent substantive amendments to the WSG adopted in version 10 and considering whether to implement certain changes in the United States.

³ Operating Limitations at John F. Kennedy International Airport, 73 FR 3510 (Jan. 18, 2008), as most recently extended 83 FR 46865 (Sep. 17, 2018). The slot coordination parameters for JFK are set forth in this Order.

⁴ For additional information on COVID-19 impacts at designated IATA Level 2 and 3 airports in the United States and actions taken by the FAA to preserve stability through the Summer 2020 scheduling season, see Notice of extension of limited waiver of the minimum slot usage requirement, 85 FR 21500 (Apr. 17, 2020).

The FAA is primarily concerned about scheduled and other regularly conducted commercial operations during peak hours, but carriers may submit schedule plans for the entire day. The peak hours for the Winter 2020/2021 scheduling season are: At EWR from 0600 to 2300 Eastern Time (1100 to 0400 UTC), at LAX and SFO from 0600 to 2300 Pacific Time (1400 to 0700 UTC), at ORD from 0600 to 2100 Central Time (1200 to 0300 UTC), and at JFK from 0600 to 2300 Eastern Time (1100 to 0400 UTC). These hours are unchanged from previous scheduling seasons.

Carriers should submit schedule information in sufficient detail including, at minimum, the marketing or operating carrier, flight number, scheduled time of operation, frequency, aircraft equipment, and effective dates. IATA standard schedule information format and data elements for communications at Level 2 and Level 3 airports in the IATA Standard Schedules Information Manual (SSIM) Chapter 6 may be used. The IATA WSG provides additional information on schedule submissions at Level 2 and Level 3 airports. Some carriers at JFK manage and track slots through FAA-assigned Slot ID numbers corresponding to an arrival or departure slot in a particular half-hour on a particular day and date. The FAA has recently initiated a similar voluntary process for tracking approved schedules at EWR with Reference IDs, and certain carriers are managing their approved schedules accordingly. These are primarily U.S. and Canadian carriers that have the highest frequencies and considerable schedule changes throughout the season and can benefit from a simplified exchange of information not dependent on full flight details. Carriers are encouraged to submit schedule requests at those airports using Slot or Reference IDs.

As stated in the WSG, schedule facilitation at a Level 2 airport is based on the following: (1) Schedule adjustments are mutually agreed upon between the airlines and the facilitator; (2) the intent is to avoid exceeding the airport's coordination parameters; (3) the concepts of historic precedence and series of slots do not apply at Level 2 airports; although WSG recommends giving priority to approved services that plan to operate unchanged from the previous equivalent season at Level 2 airports, and (4) the facilitator should adjust the smallest number of flights by the least amount of time necessary to avoid exceeding the airport's coordination parameters. Consistent with the WSG, the success of Level 2 in the United States depends on the voluntary cooperation of all carriers.

The FAA considers several factors and priorities as it reviews schedule and slot requests at Level 2 and Level 3 airports, which are consistent with the WSG, including—historic slots or services from the previous equivalent season over new demand for the same timings, services that are unchanged over services that plan to change time or other capacity relevant parameters, introduction of year-round services, effective period of operation, regularly planned operations over ad hoc operations, and other operational factors that may limit a carrier's timing flexibility. In addition to applying these priorities from the WSG, the U.S. Government has adopted a number of measures and procedures to promote competition and new entry at U.S. slot-controlled and schedule-facilitated airports.

At Level 2 airports, the FAA seeks to maintain close communications with carriers and terminal schedule facilitators on potential runway schedule issues or terminal and gate issues that may affect the runway times. As explained in prior notices, the FAA also seeks to reduce the time that carriers consider proposed offers on schedules. To allow the FAA to make informed decisions at airports where operations in some hours are at or near the scheduling limits, the FAA expects to substantially complete the review process on initial submissions each scheduling season within 30 days of the end of the Slot Conference.⁵ After this time, the agency confirms the acceptance of proposed offers or issues a denial of schedule requests, as applicable.

⁵ IATA has canceled the Winter 2020/2021 Slot Conference, which had been scheduled for June 16-18, 2020; however, the FAA intends to substantially complete the review process on initial submissions in July 2020.

Slot management in the United States differs in some respect from procedures in other countries. In the United States, the FAA is responsible for facilitation and coordination of runway access for takeoffs and landings at Level 2 and Level 3 airports; however, the airport authority or its designee is responsible for facilitation and coordination of terminal/gate/airport facility access. The process with the individual airports for terminal access and other airport services is separate from, and in addition to, the FAA schedule review based on runway capacity. Approval from the FAA for runway availability and the airport authority for airport facility availability is necessary before implementing schedule plans. Carriers seeking terminal approval should contact the schedule facilitator for that airport.

Generally, the FAA uses average hourly runway capacity throughput for airports and performance metrics in conducting its schedule review at Level 2 airports and determining the scheduling limits at Level 3 airports included in FAA rules or orders.⁶ The FAA also considers other factors that can affect operations, such as capacity changes due to runway, taxiway, or other airport construction, air traffic control procedural changes, airport surface operations, and historical or projected flight delays and congestion.

⁶ The FAA typically determines an airport's average adjusted runway capacity or typical throughput for Level 2 airports by reviewing hourly data on the arrival and departure rates that air traffic control indicates could be accepted for that hour, commonly known as “called” rates. The FAA also reviews the actual number of arrivals and departures that operated in the same hour. Generally, the FAA uses the higher of the two numbers, called or actual, for identifying trends and schedule review purposes. Some dates are excluded from analysis, such as during periods when extended airport closures or construction could affect capacity.

Finally, the FAA notes that the schedule information submitted by carriers to the FAA may be subject to disclosure under the Freedom of Information Act (FOIA). The WSG also provides for release of information at certain stages of slot coordination and schedule facilitation. In general, once it acts on a schedule submission or slot request, the FAA may release information on slot allocation or similar slot transactions or schedule information reviewed as part of the schedule facilitation process. The FAA does not expect that practice to change and most slot and schedule information would not be exempt from release under FOIA. The FAA recognizes that some carriers may submit information on schedule plans that is both customarily and actually treated as private. Carriers that submit such confidential schedule information should clearly mark the information as “PROPIN”. The FAA will take the necessary steps to protect properly designated information to the extent allowable by law.

Airport-Specific Updates

EWR Assessment Status

As stated in prior notices, the FAA regularly monitors operations and performance metrics at EWR to identify ways to improve operational efficiency and achieve delay reductions in a Level 2 environment. Access to EWR and the New York City area generally remains coveted. Requests for flights at EWR have exceeded the scheduling limits in the early morning and for multiple hours in the afternoon and evening. The FAA has regularly advised carriers that it would not be able to accommodate requests for new or retimed operations into peak hours and worked with carriers to identify alternative times that were available. In some cases, carriers have been able to swap with other carriers for their preferred times. Carriers may continue to seek swaps in order to operate within periods in which operations are at the scheduling limits. However, swaps should be reported to the FAA, as carriers are expected to operate according to the FAA's approved runway times.

For the Winter 2020/2021 season, the hourly scheduling limit remains at 79 operations and 43 operations per half-hour.⁷ Based on historical demand and a pre-Coronavirus 2019 (COVID-19) public health emergency increase in operations in “shoulder” periods adjacent to the busiest hours, most hours are now at the scheduling limits. To help with a balance between arrivals and departures, the maximum number of scheduled arrivals or departures, respectively, is 43 in an hour and 24 in a half-hour. This would allow some higher levels of operations in certain periods (not to exceed the hourly limits) and some recovery from lower demand in adjacent periods. Consistent with past practice at EWR, the FAA will accept flights above the limits if the approved flights were operated by the same carrier on a regular basis in the previous corresponding season (i.e., Winter 2019/2020).

⁷ 83 FR 21335 (May 1, 2018).

The FAA notes there are periods when the demand in half-hours and consecutive half-hours exceeds the optimum runway capacity and the scheduling limits in this notice.⁸ The historical imbalance of scheduled arrivals and departures in certain periods has contributed to increased congestion and delays when the demand exceeds the arrival or departure rates. The FAA previously advised that retiming a minimal number of arrivals in the early afternoon hours, such as 1400, to the 1300 and 1200 hours could have significant delay reduction benefits, as early afternoon delays continue to impact operations into the evening hours. As part of the voluntary schedule facilitation process for the Winter 2019/2020 scheduling season, some carriers adjusted schedules to reduce demand in certain hours and help balance the mix of arrivals and departures in some periods.

⁸ Following the Level 2 designation effective with the winter 2016/2017 scheduling season, the FAA has rolled out reduced hourly scheduling limits from 81 per hour to 79 and applied additional half-hour and arrival and departure limits.

Consistent with the WSG, carriers should be prepared to adjust schedules to meet the scheduling limits in order to minimize potential congestion and delay. The FAA has consistently stated in prior seasonal schedule submission notices that new operations will not be approved unless the period is below the FAA scheduling limits.⁹ Consistent with this approach, the FAA will not be approving new flights for the Winter 2020/2021 scheduling season if operations are at or above the applicable scheduling limits. However, the FAA notes that there may be availability for ad hoc passenger and cargo operations due to temporary COVID-19-related service changes.

⁹ See e.g., Notice of Submission Deadline for the Winter 2019/2020 Scheduling Season, 84 FR 18630 at 18632 (May 1, 2019); Notice of Submission Deadline for the Summer 2019 Scheduling Season, 83 FR 49155at 49156-49157 (Sep. 28, 2018); and, Notice of Submission Deadline for the Winter 2018/2019 Scheduling Season, 83 FR 21335 at 21337-21338 (May 9, 2018).

Carriers are reminded that the FAA's runway approval is separate from any other approvals that may be required by the airport terminal or other facilities prior to operating flights at the airport.

As indicated in the EWR schedule submission notice for the Summer 2020 scheduling season, the FAA is assessing the impacts on performance of peak period reductions and other schedule changes, such as Southwest Airlines' cessation of operations at EWR, as well as the impacts on competition, in close coordination with the Office of the Secretary of Transportation.¹⁰ This assessment is ongoing; the FAA intends to publish additional information on the outcome of this assessment in the future. Because the sudden, drastic disruption caused by COVID-19 complicates the analysis, the FAA anticipates that additional time will be necessary to study all relevant long-term effects of recent operational, performance, and demand-related changes at EWR.

¹⁰ See Notice of Submission Deadline for Schedule Information for Newark Liberty International Airport for the Summer 2020 Scheduling Season, 84 FR 52580 at 52582. The FAA noted that Southwest announced it would discontinue all EWR flights effective November 2, 2019, and that requests for new flights by other carriers would be approved by FAA only to the extent the new operations did not exceed the scheduling limits.

Consistent with the EWR schedule submission notice for the Summer 2020 scheduling season, the FAA will not in Winter 2020/2021 be replacing or “backfilling” the peak morning and afternoon/evening operations that Southwest Airlines conducted during Winter 2018/2019 and Summer 2019, to the extent the new operations would exceed the current scheduling limits. New operations may be approved by the FAA, subject to terminal and gate availability, in hours in which operations are below the scheduling limits, including any offsets for periods above the limits, consistent with established FAA policy and procedures as described in seasonal notices and the WSG.¹¹ In addition, the FAA is tracking unmet schedule requests at EWR for future consideration. The FAA will continue to follow the established schedule facilitation process at EWR consistent with the IATA WSG and as described in prior schedule submission notices.¹² Additionally, there may be availability for ad hoc passenger and cargo operations due to temporary COVID-19-related service changes.

¹¹ See supra note 7.

¹² See supra note 7.

Construction Updates

The FAA is aware of preliminary plans by the Port Authority of New York and New Jersey (PANYNJ) for a full runway closure of up to 180 days to reconstruct Runway 4R/22L at EWR. The FAA is closely monitoring the scope and timing of this project currently expected to start in spring 2021. The FAA plans to work with the PANYNJ and carriers to assess operational impacts and potential changes in delays and to develop mitigation strategies, as appropriate. Other ongoing construction includes the Terminal One redevelopment program with the demolition of the existing Terminal A complex and construction of a new Terminal One complex and South taxiways and ramp area. Ramp and taxiway congestion may be impacted at times due to the construction.

In addition, construction projects are upcoming or underway at JFK, LAX and ORD. For additional information see https://www.faa.gov/about/office_org/headquarters_offices/ato/service_units/systemops/perf_analysis/sys_cap_eval/. The construction plans for each of the airports is subject to change. The airport operators regularly meet with the FAA, airlines, and other stakeholders to review construction plans, identify operational or other issues, and develop mitigation strategies. Carriers interested in additional information on construction plans should contact the airport operator to obtain further details or information on stakeholder discussions.

Issued in Washington, DC, on May 12, 2020.
Virginia Boyle,
Deputy Vice President, System Operations Services.

[FR Doc. 2020-10696 Filed 5-18-20; 8:45 am]

BILLING CODE 4910-13-P